DEPARTMENT OF HEALTH AND HUMAN SERVICES

Health Resources and Services Administration

Agency Information Collection Activities: Submission for OMB Review; Comment Request

Periodically, the Health Resources and Services Administration (HRSA) publishes abstracts of information collection requests under review by the Office of Management and Budget (OMB), in compliance with the Paperwork Reduction Act of 1995 (44 U.S.C. chapter 35). To request a copy of the clearance requests submitted to OMB for review, e-mail paperwork@hrsa.gov or call the HRSA Reports Clearance Office on (301) 443-1129.

The following request has been submitted to the Office of Management and Budget for review under the Paperwork Reduction Act of 1995:

Proposed Project: Poison Help General Population Survey (OMB No. 0915-XXXX)—[NEW]

Annually, in the U.S., poison control centers (PCCs) manage over 4.2 million calls, providing ready and direct access to vital public health emergency information and response. In 2001, the Poison Help line, a single, national toll-free number (800-222-1222) was established to ensure universal access to PCC services, 24 hours a day, seven days a week. The Poison Help campaign is the only national media effort to promote awareness and use of the national toll-free number. The Poison Help campaign aims to reach a wide audience, as individuals of all ages are at risk for poisoning and may need to access PCC services. The Poison Help General Population Survey will be conducted with 2,000 households in the United States to evaluate the campaign's current performance. The survey supplies unique and essential information that provides HRSA with data related to national toll-free number. The survey will address topics related to the types of individuals and/or organizations respondents would contact for information, advice, and treatment related to poisoning, as well as poison prevention. Survey results will be used to guide future communication, education, and outreach efforts. There is no cost to respondents.

The annual estimate of burden is as follows:

Respondents | Number of respondents | Number of responses/ respondent | Average hours per response | Total burden hours
Survey respondents | 2000 | 1 | .166 | 332
Screened households | 2353 | 1 | .016 | 38
Total | 4353 |  |  | 370

Written comments and recommendations concerning the proposed information collection should be sent within 30 days of this notice to the desk officer for HRSA, either by e-mail to OIRA_submission@omb.eop.gov or by fax to 202-395-6974. Please direct all correspondence to the “attention of the desk officer for HRSA.”

Dated: June 21, 2011.
Reva Harris,
Acting Director, Division of Policy and Information Coordination.

[FR Doc. 2011-16127 Filed 6-27-11; 8:45 am]

BILLING CODE 4165-15-P